DEPARTMENT OF TRANSPORTATION

Federal Railroad Administration

[Docket No. FRA-2015-0062]

Florida East Coast Railway's Request for Approval To Field Test Positive Train Control on Its Cocoa Subdivision

AGENCY: Federal Railroad Administration (FRA), Department of Transportation (DOT).

ACTION: Notice of availability and request for comments.

SUMMARY: This document provides the public with notice that on March 18, 2022, Florida East Coast Railway (FECR) submitted a document entitled, “Combined FECR Test Request V 2.0,” dated March 1, 2022, to FRA. FECR asks FRA to approve its request so that FECR may field test, on its Cocoa Subdivision, FECR's freight trains and Brightline's passenger trains that have been equipped with positive train control (PTC) technology.

DATES: FRA will consider comments received by May 31, 2022. FRA may consider comments received after that date to the extent practicable and without delaying implementation of valuable or necessary modifications to a PTC system.

ADDRESSES: All comments should identify the agency name and Docket Number FRA-2015-0062, and may be submitted on https://www.regulations.gov. Follow the online instructions for submitting comments. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: On October 15, 2021, FRA conditionally certified FECR's Interoperable Electronic Train Management System (I-ETMS) PTC system under Title 49 Code of Federal Regulations (CFR) Section 236.1015 and Title 49 United States Code (U.S.C.) 20157(h). Pursuant to 49 CFR 236.1035, a railroad must obtain FRA's approval before field testing an uncertified PTC system, or a product of an uncertified PTC system, or any regression testing of a certified PTC system on the general rail system. See 49 CFR 236.1035(a). Please see FECR's test request for the required information, including a complete description of both FECR's Concept of Operations and its specific test procedures, including the measures that will be taken to ensure safety during testing.

FECR's test request is available for review online at https://www.regulations.gov (Docket No. FRA-2015-0062). Interested parties are invited to comment on the test request by submitting written comments or data. During its review of the test request, FRA will consider any comments or data submitted. However, FRA may elect not to respond to any particular comment, and under 49 CFR 236.1035, FRA maintains the authority to approve, approve with conditions, or deny the test request at its sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2022-06612 Filed 3-28-22; 8:45 am]

BILLING CODE 4910-06-P